FEDERAL EMERGENCY MANAGEMENT AGENCY

[FEMA-3154-EM]

New Mexico; Amendment No. 1 to Notice of an Emergency Declaration

AGENCY: Federal Emergency Management Agency (FEMA).

ACTION: Notice.

SUMMARY: This notice amends the notice of an emergency for the State of New Mexico, (FEMA-3154-EM), dated May 10, 2000, and related determinations.

EFFECTIVE DATE: May 11, 2000.

FOR FURTHER INFORMATION CONTACT: Madge Dale, Response and Recovery Directorate, Federal Emergency Management Agency, Washington, DC 20472, (202) 646-3772.

SUPPLEMENTARY INFORMATION: The notice of an emergency for the State of New Mexico is hereby amended to include the following area among those areas determined to have been adversely affected by the catastrophe declared an emergency by the President in his declaration of May 10, 2000:

Rio Arriba County for assistance as specified in the May 10, 2000, declaration letter.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Robert J. Adamcik,
Deputy Associate Director, Response and Recovery Directorate.

[FR Doc. 00-12810 Filed 5-19-00; 8:45 am]

BILLING CODE 6718-02-P